DEPARTMENT OF TRANSPORTATION

Maritime Administration

[Docket No.: MARAD 2004—17114]

Availability of a Draft Environmental Assessment

AGENCY: Department of Transportation, Maritime Administration.

ACTION: Notice of the availability of a Draft Environmental Assessment.

SUMMARY: The purpose of this notice is to make available for public review and comment the Draft Environmental Assessment (DEA) for the Port of Anchorage, Marine Terminal Redevelopment Project. The DEA analyzes the potential impacts on the natural and manmade environment associated with the proposed Marine Terminal Redevelopment Project. This environmental documentation supports the proposed expansion of the Port of Anchorage (POA), which includes a variety of activities to enhance the transportation of goods and people within the State of Alaska.

DATES: Comments on the DEA must be received by September 10, 2004.

FOR FURTHER INFORMATION CONTACT: Daniel E. Yuska, Jr., Environmental Protection Specialist, Office of Environmental Activities, U.S. Maritime Administration, 400 Seventh Street, SW., Washington, DC 20590; telephone (202) 366-0714, fax (202) 366-6988.

SUPPLEMENTARY INFORMATION: Comments should refer to the docket number that appears on the top of this document. Written comments may be submitted to the Docket Clerk, U.S. DOT Dockets, Room PL-401, 400 Seventh Street, SW., Washington, DC 20590. Comments may also be submitted by electronic means via the Internet at http://dmses.dot.gov/submit. Note that all comments received will be posted without change including any personal information provided in the comment. All comments received will be available for examination at the above address between 10 a.m. and 5 p.m. e.t., Monday through Friday, except Federal holidays. An electronic version of this document is available on the World Wide Web at http://dms.dot.gov. No comments will be accepted after September 10, 2004. In addition, copies of the DEA are available for public viewing on the Port of Anchorage Web site (http://www.portofanchorage.org) or at the Loussac Library in Anchorage.

(Authority: 49 CFR 1.66.)

Dated: August 6, 2004.
By Order of the Maritime Administrator.
Joel C. Richard,
Secretary, Maritime Administration.

[FR Doc. 04-18358 Filed 8-10-04; 8:45 am]

BILLING CODE 4910-81-P